DEPARTMENT OF COMMERCE

International Trade Administration

[C-570-175, C-489-854]

Certain Brake Drums From the People's Republic of China and the Republic of Türkiye: Postponement of Preliminary Determinations in the Countervailing Duty Investigations

AGENCY: Enforcement and Compliance, International Trade Administration, Department of Commerce.

DATES: Applicable September 6, 2024.

FOR FURTHER INFORMATION CONTACT: Nathan James at (202) 482-5305 (the People's Republic of China (China)); Kyle Clahane at (202) 482-5449 (the Republic of Türkiye (Türkiye)), AD/CVD Operations, Enforcement and Compliance, International Trade Administration, U.S. Department of Commerce, 1401 Constitution Avenue NW, Washington, DC 20230.

SUPPLEMENTARY INFORMATION:

Background

On July 10, 2024, the U.S. Department of Commerce (Commerce) initiated countervailing duty (CVD) investigations of imports of certain brake drums (brake drums) from China and Türkiye.¹ On July 22, 2024, Commerce tolled certain deadlines in this administrative proceeding by seven days.² Currently, the preliminary determinations are due no later than September 20, 2024.

¹ See Certain Brake Drums from the People's Republic of China and the Republic of Türkiye: Initiation of Countervailing Duty Investigations, 89 FR 58106 (July 17, 2024) (Initiation Notice).

² See Memorandum, “Tolling of Deadlines for Antidumping and Countervailing Duty Proceedings,” dated July 22, 2024.

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is Webb Wheel Products, Inc.

On August 26, 2024, the petitioner submitted a timely request that Commerce postpone the preliminary CVD determinations.⁴ The petitioner stated that it requests postponement to allow Commerce to collect the necessary information for determining the most accurate possible CVD subsidy rates, because the respondents in both investigations have yet to file their full questionnaire responses, which gives Commerce little or no time to review responses from respondents, issue supplemental questionnaires, or consider deficiency comments before reaching a preliminary determination.⁵

⁴ See Petitioner's Letter, “Request for Postponement of Preliminary Determinations,” dated August 26, 2024.

⁵ Id.

In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which these investigations were initiated, i.e., November 25, 2024.⁶ Pursuant to section 705(a)(1) of the Act and 19 CFR 351.210(b)(1), the deadline for the final determinations of these investigations will continue to be 75 days after the date of the preliminary determinations.

⁶ This deadline has been tolled by seven days. See footnote 2, supra. Additionally, postponing the preliminary determination makes the deadline Sunday, November 24, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: August 30, 2024.
Ryan Majerus,
Deputy Assistant Secretary for Policy and Negotiations, performing the non-exclusive functions and duties of the Assistant Secretary for Enforcement and Compliance.

[FR Doc. 2024-20070 Filed 9-5-24; 8:45 am]

BILLING CODE 3510-DS-P